DEPARTMENT OF COMMERCE

International Trade Administration

[A-570-042]

Stainless Steel Sheet and Strip From the People's Republic of China: Rescission of Antidumping Duty Administrative Review; 2016-2018

AGENCY: Enforcement and Compliance, International Trade Administration, Department of Commerce.

SUMMARY: The Department of Commerce (Commerce) is rescinding the administrative review of the antidumping duty (AD) order on stainless steel sheet and strip (SSSS) from the People's Republic of China (China) for the period September 19, 2016, through March 31, 2018.

DATES: Applicable Date: August 6, 2018.

FOR FURTHER INFORMATION CONTACT: Chloee Sagmoe and Kathryn Wallace, Enforcement and Compliance, AD/CVD Operations, Office VII, International Trade Administration, U.S. Department of Commerce, 1401 Constitution Avenue NW, Washington, DC 20230; telephone: (202) 482-2273 and (202) 482-6251.

Background

On April 2, 2018, Commerce published a notice of opportunity to request an administrative review of the antidumping order on SSSS from China for the period September 19, 2016 through March 31, 2018.¹ On April 30, 2018, Hans-Mill Corporation and C.Y. Housewares (Dongguan) Co., Ltd. (C.Y. Housewares), requested an administrative review of its exports of subject merchandise to the United States.² Additionally, on April 30, 2018, the petitioners ³ requested an administrative review with respect to the U.S. entries of subject merchandise that were produced in or exported from China by the companies listed in the Appendix.⁴ On June 6, 2018, in accordance with section 751(a) the Act and 19 CFR 351.221(c)(1)(i), we initiated an administrative review of the order on SSSS from China with respect to the requested companies.⁵ On June 20, 2018, the petitioners timely withdrew their requests for an administrative review of all 152 companies listed in Appendix I.⁶ On July 3, 2018, C.Y. Housewares also timely withdrew its request for an administrative review.⁷

¹ See Antidumping or Countervailing Duty Order, Finding, or Suspended Investigation; Opportunity to Request Administrative Review, 83 FR 13949 (April 2, 2018).

² See C.Y. Houseware's letter, “Stainless Steel Sheet and Strip from the People's Republic of China: Request for Administrative Review,” dated April 30, 2018.

³ The petitioners are AK Steel Corporation; Allegheny Ludlum, LLC d/b/a ATI Flat Rolled Products; North American Stainless; and Outokumpu Stainless USA, LLC.

⁴ See Petitioners' Letter, “Stainless Steel Sheet and Strip from the People's Republic of China-Petitioner's Request for Initiation of First Administrative Review” (April 30, 2018); see also Appendix for the list of companies.

⁵ See Initiation of Antidumping and Countervailing Duty Administrative Reviews, 83, FR 26258 (June 6, 2018) (Initiation Notice).

⁶ See Petitioners' letter, “Stainless Steel Sheet and Strip from the People's Republic of China- Petitioner's Withdrawal of Requests for First Administrative Review,” dated June 20, 2018.

⁷ See C.Y. Houseware's letter, “Stainless Steel Sheet and Strip from the People's Republic of China: Withdrawal of Request for Administrative Review,” dated July 3, 2018.

Rescission of Review

Pursuant to 19 CFR 351.213(d)(1), Commerce will rescind an administrative review, “in whole or in part, if a party that requested the review withdraws the request within 90 days of the date of publication of the notice of initiation of the requested review.” The petitioners and C.Y. Housewares both withdrew their requests within the 90-day time limit. Because we received no other requests for review of the order on SSSS from China, we are rescinding the administrative review of the order in full, in accordance with 19 CFR 351.213(d)(1).

Assessment

Commerce will instruct U.S. Customs and Border Protection (CBP) to assess antidumping on all appropriate entries of SSSS from China during the POR at rates equal to the cash deposit rate of estimated antidumping duties required at the time of entry, or withdrawal from warehouse, for consumption, in accordance with 19 CFR 351.212(c)(1)(i). Commerce intends to issue appropriate instructions to CBP 15 days after publication of this notice in the Federal Register.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Orders

This notice also serves as a reminder to parties subject to the administrative protective order (APO) of their responsibility concerning the disposition of proprietary information disclosed under an APO in accordance with 19 CFR 351.305(a)(3). Timely written notification of the return or destruction of APO materials, or conversion to judicial protective order, is hereby requested. Failure to comply with the regulations and terms of an APO is a violation which is subject to sanction.

This notice is issued and published in accordance with sections 751(a)(1) and 777(i)(1) of the Tariff Act of 1930, as amended, and 19 CFR 351.213(d)(4).

Dated: July 31, 2018.
James Maeder,
Associate Deputy Assistant Secretary for Antidumping and Countervailing Duty Operations performing the duties of Deputy Assistant Secretary for Antidumping and Countervailing Duty Operations.

Appendix

1. Ahonest Changjiang Stainless Co., Ltd.

2. Angang Guangzhou Stainless Steel Corporation (LISCO).

3. Angang Hanyang Stainless Steel Corp. (LISCO).

4. Anping Yuanjing Metal Products Co., Ltd.

5. Apex Industries Corporation.

6. Baofeng Xianglong Stainless Steel (Baofeng Steel Group Co.)

7. Baojing Steel Ltd.

8. Baosteel Desheng Stainless Steel Co., Ltd.

9. Baosteel Huayong Stainless Steel Co., Ltd.

10. Baosteel Stainless Steel Co., Ltd.

11. Beihai Chengde Ferronickel Stainless Steel.

12. Beijing Dayang Metal Industry Co.

13. Beijing Hengsheng Tongda Stainless Steel.

14. Beijing Jingnanfang Decoration Engineering Co., Ltd.

15. Benxi Iron and Steel.

16. Chain Chon Metal (Foshan).

17. Chain Chon Metal (Kunshan).

18. Changhai Stainless Steel.

19. Changzhou General Import and Export.

20. Changzhou Taiye Sensing Technology Co., Ltd.

21. Compart Precision Co.

22. Dalian Yirui Import and Export Agent Co., Ltd.

23. Daming International Import and Export Co., Ltd.

24. Dongbei Special Steel Group Co., Ltd

25. Double Stone Steel.

26. Etco (China) International Trading Co., Ltd.

27. FHY Corporation.

28. Foshan Foreign Economic Enterprise.

29. Foshan Hermes Steel Co., Ltd.

30. Foshan Jinfeifan Stainless Steel Co.

31. Foshan Topson Stainless Steel Co.

32. Fugang Group.

33. Fujian Fuxin Special Steel Co., Ltd.

34. Fujian Kaixi Stainless Steel.

35. Fujian Wuhang STS Products Co., Ltd.

36. Gangzhan Steel Developing Co., Ltd.

37. Globe Express Services Co., Ltd.

38. Golden Fund International Trading Co.

39. Guangdong Forward Metal Supply Chain Co., Ltd.

40. Guangdong Guangxin Suntec Metal Holdings Co., Ltd.

41. Guanghan Tiancheng Stainless Steel Products Co. Ltd.

42. Guangxi Beihai Chengde Group

43. Guangxi Wuzhou Jinhai Stainless Steel Co.

44. Guangzhou Eversunny Trading Co., Ltd.

45. Haimen Senda Decoration Material Co.

46. Hanyang Stainless Steel Co. (LISCO)

47. Hebei Iron & Steel.

48. Henan Tianhong Metal.

49. Henan Xinjinhui Stainless Steel Co., Ltd.

50. Henan Xuyuan Stainless Steel Co. Ltd.

51. Huadi Steel Group Co., Ltd.

52. Ideal Products of Dongguan Ltd.

53. Irestal Shanghai Stainless Pipe (ISSP).

54. Jaway Metal Co., Ltd.

55. Jiangdu Ao Jian Sports Apparatus Factory.

56. Jiangsu Daming Metal Products Co., Ltd.

57. Jiangsu Jihongxin Stainless Steel Co., Ltd.

58. Jiaxing Winner Import and Export Co., Ltd.

59. Jiaxing Zhongda Import and Export Co., Ltd.

60. Jieyang Baowei Stainless Steel Co., Ltd.

61. Jinyun Xinyongmao.

62. Jiuquan Iron & Steel (JISCO).

63. Kuehne & Nagel, Ltd. (Ningbo).

64. Lianzhoung Stainless Steel Corp. (LISCO).

65. Lu Qin (Hong Kong) Co., Ltd.

66. Maanshan Sungood Machinery Equipment Co., Ltd.

67. Minmetals Steel Co., Ltd.

68. Nanhi Tengshao Metal Manufacturing Co.

69. NB (Ningbo) Rilson Export & Import Corp.

70. Ningbo Baoxin Stainless Steel Co., Ltd.

71. Ningbo Bestco Import & Export Co., Ltd.

72. Ningbo Bingcheng Import & Export Co., Ltd.

73. Ningbo Chinaworld Grand Import & Export Co., Ltd.

74. Ningbo Dawon Resources Co., Ltd.

75. Ningbo Economic and Technological Development Zone (Beilun Xiapu).

76. Ningbo Hog Slat Trading Co., Ltd.

77. Ningbo New Hailong Import & Export Co.

78. Ningbo Polaris Metal Products Co.

79. Ningbo Portec Sealing Component.

80. Ningbo Qiyi Precision Metals Co., Ltd.

81. Ningbo Seduno Import & Export Co., Ltd.

82. Ningbo Sunico International Ltd.

83. Ningbo Swoop Import & Export.

84. Ningbo Yaoyi International Trading Co., Ltd.

85. Onetouch Business Service, Ltd.

86. Qianyuan Stainless Steel.

87. Qingdao-Pohang Stainless Steel (QPSS).

88. Qingdao Rising Sun International Trading Co., Ltd.

89. Qingdao Sincerely Steel.

90. Rihong Stainless Co., Ltd.

91. Ruitian Steel.

92. Samsung Precision Stainless Steel (Pinghu) Co., Ltd.

93. Sejung Sea & Air Co., Ltd.

94. Shandong Huaye Stainless Steel Group Co., Ltd.

95. Shandong Mengyin Huarun Imp and Exp Co., Ltd.

96. Shandong Mingwei Stainless Steel Products Co., Ltd.

97. Shanghai Dongjing Import & Export Co.

98. Shanghai Fengye Industry Co., Ltd.

99. Shanghai Ganglian E-commerce Holdings Co. Ltd.

100. Shanghai Krupp Stainless (SKS).

101. Shanghai Metal Corporation.

102. Shanghai Tankii Alloy Material Co, Ltd.

103. Shanxi Taigang Stainless Steel Co., Ltd. (TISCO).

104. Shaoxing Andrew Metal Manufactured Co., Ltd.

105. Shaoxing Yuzhihang Import & Export Trade Co, Ltd.

106. Shenzhen Brilliant Sign Co., Ltd.

107. Shenzhen Wide International Trade Co., Ltd.

108. Sichuan Southwest Stainless Steel.

109. Sichuan Tianhong Stainless Steel.

110. Sino Base Metal Co., Ltd.

111. Suzhou Xinchen Precision Industrial Materials Co., Ltd.

112. Taishan Steel.

113. Taiyuan Accu Point Technology, Co. Ltd.

114. Taiyuan Iron & Steel (TISCO).

115. Taiyuan Ridetaixing Precision Stainless Steel Incorporated Co., Ltd.

116. Taizhou Durable Hardware Co., Ltd.

117. Tiancheng Stainless Steel Products.

118. Tianjin Fulida Supply Co., Ltd.

119. Tianjin Hongji Stainless Steel Products Co. Ltd.

120. Tianjin Jiuyu Trade Co., Ltd.

121. Tianjin Taigang Daming Metal Product Co., Ltd.

122. Tianjin Teda Ganghua Trade Co., Ltd.

123. Tianjin Tianchengjida Import & Export Trade Co., Ltd.

124. Tianjin Tianguan Yuantong Stainless Steel.

125. TISCO Stainless Steel (HK), Ltd.

126. Top Honest Stainless Steel Co., Ltd.

127. TPCO Yuantong Stainless Steel Ware.

128. Tsingshan Qingyuan.

129. World Express Freight Co., Ltd.

130. Wuxi Baochang Metal Products Co., Ltd.

131. Wuxi Fangzhu Precision Materials Co.

132. Wuxi Grand Tang Metal Co., Ltd.

133. Wuxi Jinyate Steel Co., Ltd.

134. Wuxi Joyray International Corp.

135. Wuxi Shuoyang Stainless Steel Co., Ltd.

136. Xiamen Lizhou Hardware Spring Co., Ltd.

137. Xinwen Mining

138. Yieh Corp. Ltd.

139. Yongjin Metal Technology.

140. Yuyao Purenovo Stainless Steel Co., Ltd.

141. Zhangjiagang Pohang Stainless Steel Co., Ltd. (ZPSS)

142. Zhejiang Baohong Stainless Steel Co., Ltd.

143. Zhejiang Huashun Metals Co., Ltd.

144. Zhejiang Jaguar Import & Export Co., Ltd.

145. Zhejiang New Vision Import & Export

146. Zhejiang Yongjin Metal Technology Co., Ltd.

147. Zhengzhou Mingtai Industry Co., Ltd.

148. Zhenjiang Huaxin Import & Export

149. Zhenjiang Yongyin Metal Tech Co.

150. Zhenshi Group Eastern Special Steel Co., Ltd.

151. Zun Hua City Transcend Ti-Gold

[FR Doc. 2018-16695 Filed 8-3-18; 8:45 am]

BILLING CODE 3510-DS-P